DEPARTMENT OF JUSTICE

Drug Enforcement Administration

Manufacturer of Controlled Substances; Notice of Registration

By Notice dated February 5, 2007, and published in the Federal Register on February 12, 2007, (72 FR 6578), Cambrex Charles City, Inc., 1205 11th Street, Charles City, Iowa 50616, made application by renewal to the Drug Enforcement Administration (DEA) to be registered as a bulk manufacturer of the basic classes of controlled substances listed in schedule II:

Drug | Schedule
Amphetamine (1100) | II
Methylphenidate (1724) | II
Phenylacetone (8501) | II
Dextropropoxyphene, bulk (non-dosage form) (9273) | II
Fentanyl (9801) | II

The company plans to manufacture the listed controlled substances in bulk for sales to its customers.

No comments or objections have been received. DEA has considered the factors in 21 U.S.C. 823(a) and determined that the registration of Cambrex Charles City, Inc. to manufacture the listed basic class of controlled substance is consistent with the public interest at this time. DEA has investigated Cambrex Charles City, Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: June 7, 2007.
Joseph T. Rannazzisi,
Deputy Assistant Administrator, Office of Diversion Control,Drug Enforcement Administration.

[FR Doc. E7-11906 Filed 6-19-07; 8:45 am]

BILLING CODE 4410-09-P